DEPARTMENT OF JUSTICE

Bureau of Alcohol, Tobacco, Firearms and Explosives

[OMB Number 1140-0011]

Agency Information Collection Activities; Proposed eCollection of eComments Requested; Application To Make and Register a Firearm—ATF Form 1 (5320.1)

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995. The proposed information collection (IC) OMB 1140-0011 (Application to Make and Register a Firearm—ATF Form 1 (5320.1)) is being revised to include changes due to the formatting changes, additional definitions, updates to the instructions, and other minor adjustments due to the Bipartisan Safer Communities Act. The proposed IC is also being published to obtain comments from the public and affected agencies.

DATES: Comments are encouraged and will be accepted for an additional 30 days until September 30, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and, if so, how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a Currently Approved Collection.

2. The Title of the Form/Collection: Application to Make and Register a Firearm.

3. The agency form number, if any, and the applicable component of the Department sponsoring the collection:

Form number: ATF Form 1 (5320.1).

Component: Bureau of Alcohol, Tobacco, Firearms and Explosives, U.S. Department of Justice.

4. Affected public who will be asked or required to respond, as well as a brief abstract: Primary: Individuals or households, Business or other for-profit, Federal Government, State, Local, or Tribal Government.

Other: Not for-profit and Farms.

Abstract: The Application to Make and Register a Firearm—ATF Form 1 (5320.1) must be completed by any person, other than a qualified manufacturer, who wishes to make and register a National Firearms Act (NFA) firearm. For any person other than a government agency, the making incurs a tax of $200.

5. An estimate of the total number of respondents and the amount of time estimated for an average respondent to respond: An estimated 25,716 respondents will respond to this collection once annually, and it will take each respondent approximately 3.99783 hours to complete their responses.

6. An estimate of the total public burden (in hours) associated with the collection: The estimated annual public burden associated with this collection is 102,808 hours, which is equal to 25,716 (total respondents) * 1 (# of response per respondent) * 3.99783 hours (239.9 minutes or the time taken to prepare each response).

If additional information is required contact: Robert Houser, Assistant Director, Policy and Planning Staff, Office of the Chief Information Officer, Justice Management Division, United States Department of Justice, Two Constitution Square, 145 N Street NE, 3E-206, Washington, DC 20530.

Dated: August 25, 2022.
Robert Houser,
Assistant Director, Policy and Planning Staff, Office of the Chief Information Officer, U.S. Department of Justice.

[FR Doc. 2022-18756 Filed 8-30-22; 8:45 am]

BILLING CODE 4410-FY-P